DEPARTMENT OF HEALTH AND HUMAN SERVICES

Indian Health Service

Privacy Act of 1974; Report of an Altered System of Records; Sanitation Facilities Construction Individual Applicant Records; System Number 09-17-0004

AGENCY: Department of Health and Human Services (HHS), Indian Health Service (IHS).

ACTION: Notice of an Altered System of Records (SOR).

SUMMARY: Pursuant to the provisions of the Privacy Act of 1974, as amended, 5 U.S.C. 552a(e)(4), the IHS has amended and is publishing the proposed alteration of a SOR, System No. 09-17-0004, “Sanitation Facilities Construction Individual Applicant (SFCIA) Records.” Under the provisions of the Indian Sanitation Facilities Act, Public Law 86-121 (42 U.S.C. 2004a), IHS is charged with carrying out the functions to determine basic individual and home eligibility for sanitation services. The primary change to this SOR notice is to delete the reference to the Social Security Numbers (SSNs) under the Categories of Records; Retrievability; Notification; Record Access; and Contesting Record Procedures to comply with the Office of Management and Budget (OMB) Memorandum (M)07-16, Safeguarding Against and Responding to the Breach of Personally Identifiable Information (May 22, 2007); and the HHS Directive Memorandum of October 6, 2008 to all Operating Division Heads to develop and execute a plan to eliminate the unnecessary collection and use of SSNs.

DATES: Effective Dates: IHS filed an altered system report with the Chair of the House Committee on Oversight and Government Reform, the Chair of the Senate Committee on Homeland Security and Governmental Affairs, and the Administrator, Office of Information and Regulatory Affairs, OMB on August 26, 2009. To ensure that all parties have adequate time in which to comment, the altered SOR will become effective 40 days from the publication of the notice, or from the date it was submitted to OMB and the Congress, whichever is later, unless IHS receives comments on all portions of this notice.

ADDRESSES: The public should address comments to: Mr. William Tibbitts, IHS Privacy Act Officer, Division of Regulatory Affairs, Office of Management Services, 801 Thompson Avenue, TMP, Suite 450, Rockville, MD 20852-1627; call non-toll free (301) 443-1116; send via facsimile to (301) 443-9879, or send your e-mail requests, comments, and return address to: William.Tibbitts@ihs.gov.

FOR FURTHER INFORMATION CONTACT: Mr. Ronald C. Ferguson, Director, Division of Sanitation Facilities Construction (DSFC), Office of Environmental Health and Engineering (OEHE), 801 Thompson Avenue, TMP, Suite 610, Rockville, MD 20852-1627, Telephone (301) 443-1046.

SUPPLEMENTARY INFORMATION: Under the provisions of 25 U.S.C. 1632, it is IHS policy that all Indian communities and Indian homes, new and existing, shall be provided with safe and adequate water supply systems and sanitary sewage waste disposal for preventive health measures.

Dated: August 13, 2009.
Yvette Roubideaux,
Director, Indian Health Service.

Department of Health and Human Services

09-17-0004

SYSTEM NAME:

Indian Health Service Sanitation Facilities Construction Individual Applicant Records, HHS/IHS/OEHE.

SECURITY CLASSIFICATION:

None.

SYSTEM LOCATION:

Each Indian Health Service (IHS) Area and local Sanitation Facilities Construction (SFC) office. (See Appendix 1).

CATEGORIES OF INDIVIDUALS COVERED BY THE SYSTEM:

Individuals requesting and/or receiving sanitation facilities.

CATEGORIES OF RECORDS IN THE SYSTEM:

Contains name, home and/or mailing address, e-mail address, telephone phone number, Tribal roll/census number, request for service application to obtain sanitation facilities and all pertinent documents necessary to determine eligibility for such services.

AUTHORITY FOR MAINTENANCE OF THE SYSTEM:

• Indian Sanitation Facilities Act, Public Law 86-121; 42 U.S.C. 2004a.

• Safe Water and Sanitary Waste Disposal Facilities, Public Law 94-437 Section 302; 25 U.S.C. 1632.

• Indian Lands Open Dump Cleanup, 25 U.S.C. 3901 et seq.

• Department Regulation, 5 U.S.C. 301.

• Privacy Act of 1974 as amended, 5 U.S.C. 552a.

• Federal Records Act, 44 U.S.C. 2901.

• Section 321 of the Public Health Service Act as amended, 42 U.S.C. 248, and

• Indian Health Care Improvement Act, 25 U.S.C. 1601 et seq.

Purpose(s): The purposes of this system of records are:

1. To determine basic individual and home eligibility for sanitation services provided by the SFC Program under Public Law 86-121.

2. Budget justification for appropriation and project development to serve eligible homes and persons with sanitation facilities.

3. To monitor, track and report status and progress of services provided.

4. To maintain records on and to verify individuals' eligibility for services.

5. To link with the IHS Resource and Patient Management System (RPMS) for purposes of verifying and determining individuals' eligibility.

ROUTINE USES OF RECORDS MAINTAINED IN THE SYSTEM, INCLUDING CATEGORIES OF USERS AND THE PURPOSES OF SUCH USES:

In addition to those disclosures generally permitted under 5 U.S.C. 552a(b) of the Privacy Act, other routine uses are as follows:

1. IHS may disclose records to a congressional office in response to a verified inquiry from the Congressional office made at the written request of the subject individual.

2. IHS may disclose records to other Federal agencies or Tribes that provide funding for or are involved in providing sanitation facilities to individuals or communities. In addition, records may be disclosed to individuals specifically involved in the process of providing sanitation facilities, including but not limited to Tribal officials, Tribal housing authorities, Tribal utilities, contractors, State and local entities and consultants.

3. IHS may disclose information from these records in litigations and/or proceedings related to an administrative claim when:

(a) IHS has determined that the use of such records is relevant and necessary to the litigation and/or proceedings related to an administrative claim and would help in the effective representation of the affected party listed in subsections (i) through (iv) below, and that such disclosure is compatible with the purpose for which the records were collected. Such disclosure may be made to the Department of Justice (DOJ) when any of the following is a party to litigation and/or proceedings related to an administrative claim or has an interest in the litigation and/or proceedings related to an administrative claim:

(i) HHS or any component thereof; or

(ii) Any HHS employee in his or her official capacity; or

(iii) Any HHS employee in his or her individual capacity where the DOJ (or HHS, where it is authorized to do so) has agreed to represent the employee; or

(iv) The United States or any agency thereof (other than HHS) where HHS/OGC has determined that the litigation and/or proceedings related to an administrative claim is likely to affect HHS or any of its components.

(b) In the litigation and/or proceedings related to an administrative claim described in subsection (a) above, information from these records may be disclosed to a court or other tribunal, or to another party before such tribunal when such records are relevant and necessary to the litigation and such use by the court, tribunal, or other party is compatible with the purpose for which the agency collected the records.

4. In the event that a SOR maintained by the IHS to carry out its functions indicates a violation or potential violation of law, whether civil, criminal, or regulatory in nature, and whether arising by general statute or particular program statute, or by regulation, rule or order issued pursuant thereto, the relevant records in the SOR may be referred to the appropriate agency, whether Federal, state, or local, charged with enforcing or implementing the statute or rule, regulation or order issued pursuant thereto.

5. IHS may disclose records contained in this system of records to HHS contractors and subcontractors for the purpose of collecting, compiling, aggregating, analyzing, or refining records in the system. Contractors maintain, and are also required to ensure that subcontractors maintain Privacy Act safeguards with respect to such records.

6. IHS may disclose records contained in this system of records to other Federal or Tribal entities that provide sanitation facilities at the request of these entities in conjunction with a computer-matching program conducted by these entities to detect or curtail fraud and abuse in similar types of program services.

7. To appropriate Federal agencies and Departmental contractors that have a need to know the information for the purpose of assisting the Department's efforts to respond to a suspected or confirmed breach of the security or confidentiality of information maintained in this SOR, and the information disclosed is relevant and necessary for that assistance.

POLICIES AND PRACTICES FOR STORING, RETRIEVING, ACCESSING, RETAINING, AND DISPOSING OF RECORDS IN THE SYSTEM:

STORAGE:

Paper records are maintained in folders and/or ledgers. Electronic records are stored on computer servers.

RETRIEVABILITY:

Records, which identify individual persons, are indexed by name; address, phone number; Tribal/Census ID or SFC identification numbers.

SAFEGUARDS:

Records are accessed by persons responsible for servicing the record system in performance of their official duties. Paper records are stored in locked standard file cabinets. Electronic records are stored on servers and access or updates to information require a system password, thereby preserving the integrity of the data. All IHS personnel who make use of records contained in this system are made aware of their responsibilities under the provisions of the Privacy Act and are required to maintain Privacy Act safeguards with respect to such records.

RETENTION AND DISPOSAL:

For individuals who receive IHS sanitation facility services, the proposed IHS Records Disposition Authority (Schedule 3, Section 11, Item No. 11-11a) states the following: Transfer to the Federal Records Center (FRC) when administrative value ends, or after 10 years of inactivity, whichever is sooner. Destroy 20 years after retirement to FRC.

For individuals who do not receive IHS sanitation facility services, the proposed IHS Records Disposition Authority (Schedule 3, Section 11, Item No. 11-11b) states the following: Transfer to the FRC when administrative value ends, or after 10 years of inactivity, whichever is sooner. Destroy 20 years after retirement to the FRC.

SYSTEM MANAGERS AND ADDRESSES:

See Appendix 1.

Policy Coordinating Official: Director, DSFC, OEHE, IHS, 801 Thompson Avenue, TMP, Suite 610, Rockville, Maryland 20852. The IHS Area Office SFC Director or designee is the System Manager for all SFC offices located within their respective IHS Area. Each SFC Office Manager is the System Manager for the respective local IHS SFC office within an Area and is the point of contact for written request(s) from the individual of the record. The local IHS SFC Office Manager will process the written request by locating all or parts of the records stored either physically or electronically.

NOTIFICATION PROCEDURES:

For information, assistance, or inquiry about the existence of records, make a written request to the IHS Area SFC Director, local IHS SFC Office Manager or designee at the appropriate location. A list of all locations is provided in Appendix 1.

Individuals must provide their full name, current address and telephone number, Tribal/census ID and signature.

RECORD ACCESS PROCEDURES:

Individuals seeking access to information about themselves contained in this system should make a written request to the IHS Area SFC Director, local IHS SFC Office Manager or designee at the appropriate location. A list of all locations is provided in Appendix 1.

Individuals must provide their full name, current address and telephone number, Tribal/Census ID and signature.

CONTESTING RECORD PROCEDURES:

Make a written request to the IHS Area SFC Director, local IHS SFC Office Manager or designee at the appropriate location. A list of all locations is provided in Appendix 1.

Individuals must provide their full name, current address and telephone number, Tribal/census ID and signature.

Provide a reasonable description of the record, and specify the information being contested, the corrective action sought, and the reasons for requesting the correction, along with supporting information to show how the record is inaccurate, incomplete, untimely, or irrelevant.

RECORD SOURCE CATEGORIES:

Information will be collected from the following sources:

• From the individual and/or a by individual's family member or designated representative.

• RPMS.

• Tribal entities.

• Tribal housing authorities.

• Tribal utilities.

• Other Federal agencies, including but not limited to the Bureau of Indian Affairs, state or local governments or non-governmental entities.

SYSTEMS EXEMPTED FROM CERTAIN PROVISIONS OF THE ACT:

None.

Appendix 1: System Managers and IHS locations under their Jurisdiction Where Records are Maintained.

Director, Aberdeen Area IHS; Attention: Division of Sanitation Facilities Construction, 115 4th Avenue, SE., Aberdeen, South Dakota 57401.

Director, Belcourt Hospital IHS; Attention: Sanitation Facilities Construction, P.O. Box 160, Belcourt, North Dakota 58316.

Director, Martin Field Office IHS; Attention: Sanitation Facilities Construction, P.O. Box F, Martin, South Dakota 57551.

Director, Minot Field Office IHS; Attention: Sanitation Facilities Construction, Federal Building, Room 302, Minot, North Dakota 58701.

Director, Mobridge Field Office IHS; Attention: Sanitation Facilities Construction, P.O. Box 159, Mobridge, South Dakota 57601.

Director, Pierre Field Office IHS; Attention: Sanitation Facilities Construction, 420 South Garfield, Suite 200, Pierre, South Dakota 57501.

Director, Rosebud Hospital IHS; Attention: Sanitation Facilities Construction, P.O. Box 400, Rosebud, South Dakota 57570.

Director, Sioux City Field Office IHS; Attention: Sanitation Facilities Construction, 6th and Douglas, Room 207, Box 19, Sioux City, Iowa 51101.

Director, Alaska Area Native Health Service; OEHE—Division of Sanitation Facilities Construction, 4141 Ambassador Drive, Suite 300, Anchorage, Alaska 99508.

Director, Albuquerque Area IHS; Attention: Sanitation Facilities Construction, 5300 Homestead Road, NE., Albuquerque, New Mexico 87110.

Director, Albuquerque Service Unit IHS; Attention: Sanitation Facilities Construction, 801 Vassar Drive, NE., Albuquerque, New Mexico 87106.

Director, Santa Fe Service Unit IHS; Attention: Sanitation Facilities Construction, 1700 Cerrillos Road, Santa Fe, New Mexico 87505.

Director, Southern Ute Service Unit IHS; Attention: Sanitation Facilities Construction, 322 Buckskin Charlie, Ignacio, Colorado 81137.

Director, Bemidji Area IHS; Attention: Sanitation Facilities Construction, 522 Minnesota Avenue, NW., Room 216, Bemidji, Minnesota 56601.

Director, Ashland Field Office IHS; Attention: Sanitation Facilities Construction, 2800 Lake Shore Drive East, Ashland, Wisconsin 54806.

Director, Minnesota District Office IHS; Attention: Sanitation Facilities Construction, 522 Minnesota Avenue, NW., Room 216, Bemidji, Minnesota 56601.

Director, Rhinelander District Office IHS; Attention: Sanitation Facilities Construction, 9A South Brown Street, Rhinelander, Wisconsin 54501.

Director, Sault St. Marie Field Office IHS; Attention: Sanitation Facilities Construction, 2847 Ashmun Street, Suite 1, Sault Ste. Marie, Minnesota 49783.

Director, Billings Area IHS; Attention: Sanitation Facilities Construction, 2900 4th Avenue North, Box 36600, Billings, Montana 59107.

Director, PHS Indian Hospital; Attention: Sanitation Facilities Construction, P.O. Box 760, Browning, Montana 59417.

Director, Crow Agency PHS Indian Hospital; Attention: Sanitation Facilities Construction, P.O. Box 9, Crow Agency, Montana 59022.

Director, Wind River Service Unit IHS; Attention: Sanitation Facilities Construction, #76 Black Cole Drive, Box 128, Fort Washakie, Wyoming 82514.

Director, Harlem PHS Indian Hospital; Attention: Sanitation Facilities Construction, RR1, Box 67, Harlem, Montana 59526.

Director, Lame Deer PHS Indian Health Center; Attention: Sanitation Facilities Construction, Lame Deer, Montana 59043.

Director, Wolf Point PHS Indian Health Center; Attention: Sanitation Facilities Construction, Chief Redstone Health Center, #729, Wolf Point, Montana 59201.

Director, California Area IHS; Attention: Division of Sanitation Facilities Construction, 650 Capitol Mall, Suite 7-100, Sacramento, California 95814.

Director, Arcata Field Office, IHS; Attention: Sanitation Facilities Construction, 1125 16th Street, Suite 100, Arcata, California 95521.

Director, Escondido District Office IHS; Attention: Sanitation Facilities Construction, 1320 West Valley Parkway, Suite 309, Escondido, California 92029.

Director, Fresno Field Office IHS; Attention: Sanitation Facilities Construction, 1551 East Shaw Avenue, Suite 117B, Fresno, California 93710.

Director, Redding District Office IHS; Attention: Sanitation Facilities Construction, 1900 Churn Creek Road, Suite 210, Redding, California 96002.

Director, Ukiah Field Office IHS; Attention: Sanitation Facilities Construction, 609 South State Street, Suite A, Ukiah, California 95482.

Director, Nashville Area IHS; Attention: Division of Sanitation Facilities Construction, 711 Stewarts Ferry Pike, Nashville, Tennessee 37214-2634.

Director, Atmore Field Office IHS; Attention: Sanitation Facilities Construction, 5811 Jack Springs Road, Atmore, Alabama 46502.

Director, Bangor Field Office IHS; Attention: Sanitation Facilities Construction, 304 Hancock Street, #3H, Bangor, Maine 04401-6573.

Director, Opelousas Field Office IHS; Attention: Sanitation Facilities Construction, 2341 Larkspur Lane, Suite 2, Opelousas, Louisiana 70570.

Director, Manlius Field Office; Attention: Sanitation Facilities Construction, 122 East Seneca Street, Manlius, New York 13104.

Director, Navajo Area IHS; Attention: Director, Division of Sanitation Facilities Construction, P.O. Box 9020 (Physical Address: Hwy 264 & St. Michael Road), Window Rock, Arizona 86515.

Director, Crownpoint Health Care Facility; Attention: Sanitation Facilities Construction, P.O. Box 680, Crownpoint, New Mexico 87313.

Director, Farmington Field Office IHS; Attention: Sanitation Facilities Construction, 300 West Arrington, Suite 121, Farmington, New Mexico 87401.

Director, Flagstaff Field Office IHS; Attention: Sanitation Facilities Construction, P.O. Box KK, Flagstaff, Arizona 86002.

Director, Fort Defiance Indian Hospital; Attention: Sanitation Facilities Support Center, P.O. Box 648, Fort Defiance, Arizona 86504.

Director, Gallup Indian Medical Center IHS; Attention: Sanitation Facilities Construction, 3412 East Highway 66, Gallup, New Mexico 87301.

Director, Kayenta Indian Health Center; Attention: Sanitation Facilities Construction, P.O. Box 368, Kayenta, Arizona 86033.

Director, Many Farms Field Office IHS; Attention: Sanitation Facilities Construction, P.O. Box 694, Many Farms, Arizona 86538.

Director, Northern Navajo Medical Center IHS; Attention: Sanitation Facilities Construction, P.O. Box 160, Shiprock, New Mexico 87420.

Director, Tuba City Regional Health Care Center; Attention: Sanitation Facilities Construction, P.O. Box 600, Tuba City, Arizona 86045.

Director, Winslow Indian Health Care Center; Attention: Sanitation Facilities Construction, 500 N. Indiana Avenue, Winslow, Arizona 86047.

Director, Oklahoma City Area IHS; Attention: Director, Division of Sanitation Facilities Construction, Five Corporate Plaza, 3625 NW. 56th Street, Oklahoma City, Oklahoma 73112.

Director, Clinton Field Office IHS; Attention: Sanitation Facilities Construction, Route 1, Box 3060, Clinton, Oklahoma 73601.

Director, Holton Field Office IHS; Attention: Sanitation Facilities Construction, 324 New York Avenue, Holton, Kansas 66436.

Director, Lawton Indian Hospital IHS; Attention: Sanitation Facilities Construction, 1515 Lawrie Tatum Road, Lawton, Oklahoma 73507.

Director, Miami Field Office IHS; Attention: Sanitation Facilities Construction, P.O. Box 1498, Miami, Oklahoma 74354.

Director, Okmulgee Field Office IHS; Attention: Sanitation Facilities Construction, P.O. Box 67, Okmulgee, Oklahoma 74447.

Director, Pawnee Field Office IHS; Attention: Sanitation Facilities Construction, 1201 Heritage Circle, Pawnee, Oklahoma 74058.

Director, Shawnee Field Office IHS; Attention: Sanitation Facilities Construction, 14106 Highway 177, Shawnee, Oklahoma 74804.

Director, Phoenix Area IHS; Attention: Director, Division of Sanitation Facilities Construction, Two Renaissance Square, Suite 720, 40 North Central Avenue, Phoenix, Arizona 85004-4424.

Director, Elko Field Office IHS; Attention: Sanitation Facilities Construction, 557 W. Silver Street, Suite 204, Elko, Nevada 89801.

Director, Fort Duchesne Indian Health Center; Attention: Sanitation Facilities Construction, P.O. Box 489, Fort Duchesne, Utah 84026.

Director, Eastern Arizona District Office IHS; Attention: Sanitation Facilities Construction, 5448 S. White Mountain Road, Suite 220, Lakeside, Arizona 85929.

Director, Hopi Health Care Center; Attention: Sanitation Facilities Construction, P.O. Box 4000, Polacca, Arizona 86042

Director, San Carlos PHS Indian Hospital; Attention: Sanitation Facilities Construction, P.O. Box 208, San Carlos, Arizona 85550.

Director, Reno District Office IHS; Attention: Sanitation Facilities Construction, 1395 Greg Street, Suite 101, Sparks, Nevada 89431.

Director, Western Arizona District Office IHS; Attention: Sanitation Facilities Construction, 1553 West Todd Drive, Suite 107, Tempe, Arizona 85283.

Director, Whiteriver PHS Indian Hospital; Attention: Sanitation Facilities Construction, P.O. Box 860, Whiteriver, Arizona 85941.

Director, Fort Yuma PHS Indian Hospital; Attention: Sanitation Facilities Construction, P.O. Box 1368, Yuma, Arizona 85364.

Director, Portland Area IHS; Attention: Director, Division of Sanitation Facilities Construction, 1220 SW. Third Avenue, Room 476, Portland, Oregon 97204.

Director, Olympic District Office IHS; Attention: Sanitation Facilities Construction, 4060 Wheaton Way, Suite B, Bremerton, Washington 98310.

Director, Fort Hall Field Office IHS; Attention: Sanitation Facilities Construction, P.O. Box 717, Mission Road, Fort Hall, Idaho 83203.

Director, Port Angeles Field Office IHS; Attention: Sanitation Facilities Construction, 1601 East Front Street, Building B, Suite C, Port Angeles, Washington 98362.

Director, Western Oregon Service Unit IHS; Attention: Sanitation Facilities Construction, 3750 Chemawa Road, NE., Salem, Oregon 97305.

Director, Seattle District Office IHS; Attention: Sanitation Facilities Construction, 2201 Sixth Avenue, Room 300, Seattle, Washington 98121.

Director, Spokane District Office IHS; Attention: Sanitation Facilities Construction, 1919 E. Francis Avenue, Spokane, Washington 99208.

Director, Tucson Area IHS; Attention: Director, Division of Sanitation Facilities Construction, 7900 S.J. Stock Road, Tucson, Arizona 85746-7012.

Director, Western District Office IHS; Attention: Sanitation Facilities Construction, 2250 North Final Avenue, Suite 4, Casa Grande, Arizona 85222.

Director, Sells Service Unit IHS; Attention: Sanitation Facilities Construction, P.O. Box 548, Mesquite Street, Sells, Arizona 85634.

[FR Doc. E9-20410 Filed 8-25-09; 8:45 am]

BILLING CODE 4160-16-M